ENVIRONMENTAL PROTECTION AGENCY

[FRL-8926-8]

Farm, Ranch, and Rural Communities Committee

AGENCY: Environmental Protection Agency (EPA).

ACTION: Notice of cancellation of a meeting.

SUMMARY: The Environmental Protection Agency, Office of Cooperative Environmental Management, announces the cancellation of a meeting of the Farm, Ranch, and Rural Communities Committee (FRRCC). This meeting, a teleconference on July 13, 2009, was announced in a Federal Register Notice published on June 9, 2009 (74 FR 27316). The purpose of this meeting was for the FRRCC to discuss and approve various draft advice letters for submission to the EPA.

FOR FURTHER INFORMATION CONTACT: Alicia Kaiser, Designated Federal Officer, kaiser.alicia@epa.gov, 202-564-7273, U.S. EPA, Office of the Administrator (1101A), 1200 Pennsylvania Avenue, NW., Washington, DC 20460, or Christopher Ashcraft, Junior Designated Federal Officer, ashcraft.christopher@epa.gov, 202-564-2432, U.S. EPA, Office of the Administrator (1601M), 1200 Pennsylvania Avenue, NW., Washington, DC 20460.

Dated: June 25, 2009.
Alicia Kaiser,
Designated Federal Officer.

[FR Doc. E9-15799 Filed 7-2-09; 8:45 am]

BILLING CODE 6560-50-P